DEPARTMENT OF HEALTH AND HUMAN SERVICES

Centers for Disease Control and Prevention

[30Day-23-1233]

Agency Forms Undergoing Paperwork Reduction Act Review

In accordance with the Paperwork Reduction Act of 1995, the Centers for Disease Control and Prevention (CDC) has submitted the information collection request titled “Paul Coverdell National Acute Stroke Program (PCNASP) 2021-2024 Evaluation” to the Office of Management and Budget (OMB) for review and approval. CDC previously published a “Proposed Data Collection Submitted for Public Comment and Recommendations” notice on May 23, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Paul Coverdell National Acute Stroke Program (PCNASP) (DP21-2102) Evaluation (OMB Control No. 0920-1233)—Reinstatement with Change—National Center for Chronic Disease Prevention and Health Promotion (NCCDPHP), Centers for Disease Control and Prevention (CDC).

Background and Brief Description

The Centers for Disease Control and Prevention (CDC), Division for Heart Disease and Stroke Prevention (DHDSP), requests OMB approval for a Reinstatement of a previously approved data collection. The CDC is the primary federal agency for protecting health and promoting quality of life through the prevention and control of disease, injury, and disability. CDC is committed to programs that reduce the health and economic consequences of the leading causes of death and disability, thereby ensuring a long, productive, healthy life for all people.

Stroke remains a leading cause of serious, long-term disability and is the fifth leading cause of death in the United States after heart disease, cancer, chronic lower respiratory diseases, and accidents. Estimates indicate that approximately 795,000 people suffer a first-ever or recurrent stroke each year with more than 146,000 deaths annually. Although there have been significant advances in preventing and treating stroke, the rising prevalence of heart disease, diabetes, and obesity has increased the relative risk for stroke, especially in African American populations. Moreover, stroke's lifetime direct cost of health care and indirect cost of lost productivity is staggering and imposes a substantial societal economic burden. There is a critical need to improve access to and quality of care for those at highest risk for events and stroke patients among the continuum of care, particularly among high burden populations. Coverdell-funded state programs are in the forefront of developing and implementing system-change efforts to improve stroke systems of care using strategies like linking and using data, using team based approaches to coordinate stroke care, and providing community resources to reach the general populations and specifically those at highest risk of stroke events, and reduce disparities in access to quality care for high burden populations.

When Congress directed CDC to establish the Paul Coverdell National Acute Stroke Program (PCNASP) in 2001, CDC intended to monitor trends in stroke and stroke care, with the ultimate mission of improving the quality of care for stroke patients in the United States. Since 2021, CDC has funded and provided technical assistance to 13 recipients to develop comprehensive stroke systems of care. A comprehensive system of care improves quality of care by creating seamless transitions for individuals experiencing stroke. In such a system, pre-hospital providers, in-hospital providers, and early post-hospital providers coordinate patient hand-offs and ensure continuity of care. While PCNASP has existed since 2001, the goal and mission of the program has evolved with each funding cycle. The 2021-2024 funding cycle is the first such initiative to focus on addressing health equity specifically and understanding efforts to impact stroke outcomes for those at highest risk of stroke. CDC contracted with RTI International to conduct a national evaluation to assess program implementation as well as short term and intermediate outcomes of the 13 funded recipients.

CDC and RTI International propose to collect information from all PCNASP recipients to gain insight into the effectiveness of implementation approaches, including linking and using data, using team-based approaches to coordinate stroke care, and providing community resources in order to reach the general population and those at highest risk of stroke events, and reduce disparities in access to quality care for high burden populations. The information collection will focus on describing PCNASP specific contributions to effective state-based stroke systems of care and the costs associated with this work. Two components of the information collection include: (1) program implementation cost data collection from program recipients using a cost collection tool; and (2) interviews using Zoom, Skype, Teams or a similar technology with key program and partner staff. Cost data collection will focus on recipients' cumulative spending to support PCNASP activities, spending by reporting period, and spending associated with specific PCNASP strategies related to building comprehensive state-wide stroke systems of care and strategies focusing on high-risk populations. Interview questions will focus on how each recipient implemented its strategies to increase access to and quality of healthcare overall as well as for patients at highest risk of stroke events. The data collection will identify challenges encountered and how they were overcome, factors that facilitated implementation, lessons learned along the way, and observed outcomes and improvements. The information to be collected does not currently exist for large scale, statewide programs that employ multiple combinations of strategies to build comprehensive stroke systems of care. The insights to be gained from this data collection will be critical to improving immediate efforts and achieving the goals of spreading and replicating state-level strategies that are proven programmatically and are cost-effective in contributing to a higher quality of care for stroke patients.

OMB approval is requested for two years. The total estimated annualized burden hours are 117. There are no costs to the respondents other than their time to participate.

Estimated Annualized Burden Hours
Type of respondents | Form name | Number of respondents | Number of responses per respondent | Average burden per response (in hours)
Program Manager | Cost Collection Tool | 13 | 1 | 2
Program Director | Interviews using Zoom, Skype, Teams | 13 | 1 | 1
Quality Improvement Specialist | Interviews using Zoom, Skype, Teams | 13 | 1 | 1
Partner Staff | Interviews using Zoom, Skype, Teams | 52 | 1 | 1

Jeffrey M. Zirger,
Lead, Information Collection Review Office, Office of Scientific Integrity, Office of Science, Centers for Disease Control and Prevention.

[FR Doc. 2022-24917 Filed 11-15-22; 8:45 am]

BILLING CODE 4163-18-P